DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 05-059. Applicant: College of Staten Island, 2800 Victory Blvd., Staten Island, NY 10314. Instrument: Plasma System. Manufacturer: Diener Electronic GmBh & Co., KG, Germany. Intended Use: The instrument is intended to be used to study and develop:

1. Nanotechnolgy with focused ion beams, including electronic properties of carbon nanowires direct written with nano-scaled ion beams on carbonaceous substrates

2. Micro- and nano-scale light emitting diodes on diamond, with the aim to develop single molecule and single photon electrically driven light sources operating at room temperature

3. Development of high-pressure, high-temperature diamond anvil cells with internally heated anvils for hydrothermal and and shear stress experiments.

The instrument will also be used in courses on materials science.Application accepted by Commissioner of Customs: December 20,2005.

Docket Number: 06-002. Applicant: The University of Puerto Rico at Mayaguez, Dept. Of Chemistry, Mayaguez, Puerto Rico 00680 Instrument: Electron Microscope, Model JEM-2010 Manufacturer: JEOL Ltd., Japan. Intended Use: The instrument is intended to be used for experimental studies including the characterization of gold and silver nanostructures, structure-property relations in semiconductor nanoparticles, nanowire formations and nanorods, structural fuel cell performance and the catalytic activity of Pt, Ru and Pt-Ru nanostructures, and the structure of functionalized organic-based nanofibers. The instrument will also be used in a variety of courses. Application accepted by Commissioner of Customs: January 20,2006.

Docket Number: 06-003. Applicant: Oklahoma State University, 203 Whitehurst, Stillwater, OK 74048-3011. Instrument: Electron Microscope, Model JEM-2100F. Manufacturer: JEOL Ltd., Japan. Intended Use: The instrument is intended to be used for studies including:

1. Decomposed metal complexes at low temperatures which yield nanocrystalline products that are useful catalysts, electrode materials for batteries and supercapacitors, corrosion inhibitors, photovoltaics, and sorbants for pollutants.

2. Semiconducting nanoparticles (as small as 2 nm), single wall nanotubes and the electrical conductivity of either a semiconductor or a metal, depending on the diameter and helicity of the tube.

3. Virus-vector interactions in several important plant disease inducing viruses, that are vectored by fungi, for understanding emerging diseases in plants.

It will also be used for graduate student training in electron microscopy. Application accepted by Commissioner of Customs: January 23, 2006.

Docket Number: 06-004. Applicant: University of North Texas, Department of Materials Science and Engineering, 3940 N. Elm, Research Park Room E132, Denton, TX 76203. Instrument: Mass Spectrometer, Model Nova 200 NanoLab. Manufacturer: FEI Company, The Netherlands. Intended Use: The instrument is intended to be used in a central research facility for studies in materials science, chemistry, biology and physics. For example, in materials science and engineering, it will be used to study shape-memory metallic alloys, aluminum alloys for automotive uses, porous ceramic thin films and strained Si substrates for microelectronic devices, polymer nanocomposites, characterization of ion beam-solid interaction, optoelectronic thin films for solid state lighting and photovoltaic applications, and ceramic materials for low temperature solid oxide fuel cells. Application accepted by Commissioner of Customs: February 14, 2006.

Docket Number: 06-005. Applicant: University of Maryland, Materials Science and Engineering Department, Kim Building, Room 1237, College Park, MD 20742. Instrument: Electron Microscope, Model JEM-2100F. Manufacturer: JEOL Ltd., Japan. Intended Use: The instrument is intended to be used to characterize nanomaterials and nanocomposites at the atomic level. These include semiconductor nanostructures, polymeric materials, metal nanoparticles, ferroelectric/ferromagnetic oxide nanocomposites and semiconductor nanowires. Properties of materials examined include crystal structure and quality of material, structural defects, and morphology using techniques of electron diffraction, high resolution lattice imaging, bright/dark field imaging and obtaining electron diffraction patterns and images of areas as small as a few nanometers in diameter. The instrument will also be used in courses and for conducting individual graduate research projects. Application accepted by Commissioner of Customs: February 8, 2006.

Gerald A. Zerdy,
Program Manager, Statutory Import Programs Staff.

[FR Doc. E6-2988 Filed 3-1-06; 8:45 am]

BILLING CODE 3510-DS-S